Title 3—

The President

Proclamation 8578 of October 4, 2010

Child Health Day, 2010

By the President of the United States of America

A Proclamation

The health and well-being of a child is one of our most challenging, yet important, responsibilities, and we have an obligation to ensure that all our children can live, learn, and play in safe and healthy environments. On Child Health Day, we reaffirm the critical importance of the quality health care, nutritious foods, clean air and water, and safe communities our kids need to grow into strong and active adults.

Parents and other caregivers set an example of healthy living and lay the foundation for our children’s success. Whether providing nourishing meals, attending regular check-ups, or encouraging outside activity, they teach the habits and values for mental and physical well-being that last a lifetime. However, the charge to protect the health of our young people extends beyond the home to our classrooms, playgrounds, and hospitals around the country.

Today, our children face a new public health crisis we must address as a Nation, and we all have a role to play. In the last three decades, childhood obesity rates have tripled, and this epidemic threatens many young Americans, leaving them at risk for severe and chronic health problems, including heart disease, diabetes, and cancer. My Administration is committed to solving the childhood obesity epidemic within a generation, and earlier this year I created a Task Force on Childhood Obesity to examine interagency solutions and develop clear, concrete steps on how to address this national health crisis. Along with the Task Force, First Lady Michelle Obama’s “Let’s Move!” initiative empowers parents and caregivers to help their kids maintain a healthy weight and make healthy choices for their families. “Let’s Move!” also encourages young people to choose wholesome foods, increase their physical activity, and develop life-long healthy habits. Child care providers and schools also have an important part in strengthening health and physical education programs and providing nutritious foods in cafeterias and vending areas.

In America, no parent should have to agonize over finding or affording health care for their child. To address this, the Affordable Care Act guarantees that children are eligible for health coverage regardless of any pre-existing condition. This landmark law extends the Children’s Health Insurance Program, and requires basic dental and vision coverage for children under all health plans offered in the new health insurance exchanges beginning in 2014. It also expands our health care workforce, including increasing the number of primary care providers who treat children; forbids insurance companies from dropping coverage if a child or family member gets sick; and helps ensure access to free preventive services. As we mark these successes and the beginning of a new chapter in American health care this year, we also celebrate the 75th anniversary of the Social Security Act—including title V of this milestone legislation, which supports maternal and child health programs and services across the country.

Parents also should not have to worry about whether the conditions in which their children grow and play are unsafe or unclean. Prenatal and early-life exposures to allergens and environmental contaminants may have detrimental lifelong effects. We must take action for our children’s and grandchildren’s sake, and we must work together to reduce risks from environmental exposure at home, school, and play areas. Through coordinated efforts like that of the President’s Task Force on Environmental Health Risks and Safety Risks to Children, my Administration will continue to empower Federal interagency collaboration to help ensure healthy homes and communities exist for our children.

Children are our most precious resource. They are our joy in the present, and our hope for the future. As loved ones and educators, mentors and friends, we must do everything in our power to protect the health and well-being of our Nation’s children and the promise of their futures.

NOW, THEREFORE, I, BARACK OBAMA, President of the United States of America, by virtue of the authority vested in me by the Constitution and the laws of the United States, do hereby proclaim Monday, October 4, 2010, as Child Health Day. I call upon families, child health professionals, faith-based and community organizations, and all levels of government to help ensure that America’s children stay safe and healthy.

IN WITNESS WHEREOF, I have hereunto set my hand this fourth day of October, in the year of our Lord two thousand ten, and of the Independence of the United States of America the two hundred and thirty-fifth.

[FR Doc. 2010-25682

Filed 10-8-10; 8:45 am]

Billing code 3195-W1-P